DEPARTMENT OF THE INTERIOR

[233D0102DM, DS6CS00000, DLSN00000.000000, DX.6CS25; OMB Control Number 1093-0010]

Agency Information Collection Activities; Submission to the Office of Management and Budget for Review and Approval; Youth Conservation Corps Application and Medical History

AGENCY: Office of the Secretary, Interior.

ACTION: Notice of information collection; request for comment.

SUMMARY: In accordance with the Paperwork Reduction Act of 1995, we, the Department of the Interior (Interior) are proposing to renew an information collection

DATES: Interested persons are invited to submit comments on or before September 15, 2023.

ADDRESSES: Written comments and recommendations for the proposed information collection should be sent within 30 days of publication of this notice to www.reginfo.gov/public/do/PRAMain. Find this particular information collection by selecting “Currently under Review—Open for Public Comments” or by using the search function. Please provide a copy of your comments to Jeffrey Parrillo, Departmental Information Collection Clearance Officer, 1849 C Street NW, Washington, DC 20240; or by email to PRA-DOI@ios.doi.gov; or by telephone at 202-208-7072. Please reference OMB Control Number 1093-0010 in the subject line of your comments.

FOR FURTHER INFORMATION CONTACT: To request additional information about this information collection request (ICR), contact Lucy Hurlbut, Outreach and Digital Communications Specialist, Washington, DC Area Support Office (WASO) at lucy_hurlbut@nps.gov (email); or at (202) 513-7161 (telephone). Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other federal agencies with an opportunity to comment on new, proposed, revised, and continuing collections of information. This helps us assess the impact of our information collection requirements and minimize the public's reporting burden. It also helps the public understand our information collection requirements and provide the requested data in the desired format.

On April 6, 2023, we published the 60-day Federal Register Notice in the Federal Register (88 FR 20548) to request OMB to approve the renewal of the information collection associated with the Youth Conservation Corps Application and Medical History Forms. We solicited public comments for 60 days, ending June 5, 2023. We did not receive any comments from the public.

As part of our continuing effort to reduce paperwork and respondent burdens, we are again soliciting comments from the public and other federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Youth Conservation Corps (YCC) is a summer youth employment program that engages young people in meaningful work experiences at national parks, forests, wildlife refuges, and fish hatcheries while developing an ethic of environmental stewardship and civic responsibility. YCC programs are generally eight to ten weeks and members are paid at least the state or federal minimum wage (whichever is higher) for a 40-hour work week. YCC opportunities provide paid daytime work activities with members who commute to the federal unit daily. Authorized by the Youth Conservation Corps Act of August 13, 1970, as amended (U.S. 1701-1706), participating agencies (National Park Service, U.S. Fish and Wildlife Service, Forest Service) use common forms: DI- 4014, “Youth Conservation Corps Application” and DI-4015, “Youth Conservation Corps Medical History” to collect information to determine the eligibility of each youth for employment with the YCC. Parents or guardians must sign both forms if the applicant is under 18 years of age.

Title of Collection: Youth Conservation Corps Application and Medical History Form.

OMB Control Number: 1093-0010.

Type of Review: Extension of a currently approved collection.

Respondents/Affected Public: Youths 15 through 18 years old seeking seasonal employment in the YCC Program.

Total Estimated Number of Annual Respondents: 11,409 (8,599/application 2,810/medical history).

Total Estimated Number of Annual Responses: 11,409 (8,599/application 2,810/medical history).

Estimated Completion Time per Response: 25 minutes/application and 14 minutes/medical history form.

Total Estimated Number of Annual Burden Hours: 4,239 hours (3,583 hours/application and 656 hours/medical history forms).

Respondent's Obligation: Required to obtain or retain a benefit.

Frequency of Collection: On occasion.

Total Estimated Annual Non-Hour Burden Cost: None.

An agency may not conduct, or sponsor, and a person is not required to respond to a collection of information unless it displays a currently valid OMB control number.

The authority for this action is the Paperwork Reduction Act of 1995 (44 U.S.C. 3501 et seq.).

Jeffrey Parrillo,
Departmental Information Collection Clearance Officer.

[FR Doc. 2023-17562 Filed 8-15-23; 8:45 am]

BILLING CODE 4334-63-P